DEPARTMENT OF TRANSPORTATION

Federal Aviation Administration

Notice of Intent To Rule on Application 00-01-I-00-TTN To Impose the Revenue From a Passenger Facility Charge (PFC) at Trenton Mercer Airport, West Trenton, New Jersey

AGENCY: Federal Aviation Administration (FAA), DOT.

ACTION: Notice of intent to rule on application.

SUMMARY: The FAA proposes to rule and invites public comment on the application to impose the revenue from a PFC at Trenton Mercer Airport under the provisions of the Aviation Safety and Capacity Expansion Act of 1990 (Title IX of the Omnibus Budget Reconciliation Act of 1990) (Public Law 101-508) and part 158 of the Federal Aviation Regulations (14 CFR part 158).

DATES: Comments must be received on or before August 11, 2000.

ADDRESSES: Comments on this application may be mailed or delivered in triplicate to the FAA at the following address: FAA-NYADO, Mr. Philip Brito, Suite 446, 600 Old County Road, Garden City, N.Y. 11530.

In addition, one copy of any comments submitted to the FAA must be mailed or delivered to Trenton Mercer Airport, Mr. Justin P. Edwards, Airport Manager at the following address: Trenton Mercer Airport, Terminal Building, Sam Weinroth Road, West Trenton, N.J. 08628.

Air carriers and foreign air carriers may submit copies of written comments previously provided to the Trenton Mercer Aiport under section 158.23 of Part 158.

FOR FURTHER INFORMATION CONTACT: Mr. Dan Vornea, P.E. Airport Manager, Airports District Office, FAA-NYADO Suite 446 600 Old County Road, Garden City, New York 11530, Telephone (516) 227-3812. The application may be reviewed in person at this same location.

SUPPLEMENTARY INFORMATION: The FAA proposes to rule and invites public comment on the application to impose the revenue from a PFC at Trenton Mercer Airport under the provisions of the Aviation Safety and Capacity Expansion Act of 1990 (Title IX of the Omnibus Budget Reconciliation Act of 1990) (Public Law 101-508) and Part 158 of the Federal Aviation Regulations (14 CFR part 158).

On June 22, 2000, the FAA determined that the application to impose the revenue from a PFC submitted by Trenton Mercer Airport was substantially complete within the requirements of section 158.25 of Part 158. The FAA will approve or disapprove the application, in whole or in part, no later than October 12, 2000.

The following is a brief overview of the application.

PFC Application No.: 00-01-I-00-TTN.

Level of the proposed PFC: $3.00.

Proposed charge effective date: January 1, 2001.

Proposed charge expiration date: May 30, 2042.

Total estimated PFC revenue: $15,300,000.

Brief description of proposed project: Design and Construction of New Terminal Building Project.

Class and classes of air carriers which the public agency has requested not be required to collect PFCs: ATCO—Air Taxi/Commercial Operators filing FAA Form 1800-31.

Any person may inspect the application in person at the FAA office listed above under FOR FURTHER INFORMATION CONTACT and at the FAA regional airport office located at: Federal Aviation Administration, Eastern Region, Airports Division, AEA-610, 1 Aviation Plaza, Jamaica, New York, 11434-4809.

In addition, any person may, upon request, inspect the application, notice and other documents germane to the application in person at the Trenton Mercer Airport.

Issued in NYADO, Garden City, N.Y. on June 26, 2000.
Philip Brito,
Manager, NYADO, Eastern Region.

[FR Doc. 00-17612 Filed 7-11-00; 8:45 am]

BILLING CODE 4910-13-M